DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The purpose of the Committee meeting is to provide training to the incoming FY 2003 Committee members. The meetings is open to the public, subject to the availability of space, except for a small portion that is for administrative purposes only and is therefore not open to the public.

Interested persons may submit a written statement for consideration by the Committee and make an oral presentation of such. Persons desiring to make an oral presentation or submit a written statement to the Committee must notify the point of contact listed below no later than noon, December 2, 2002. Oral presentations by members of the public will be permitted only on Thursday, December 5, 2002, from 4:15 p.m. to 4:30 p.m. before the full Committee. Presentations will be limited to two minutes. Number of oral presentations to be made depend on the number of requests received from members of the public. Each person desiring to make an oral presentation must provide the point of contact listed below with one (1) copy of the presentation by noon, December 2, 2002 and bring 50 copies of any material that is intended for distribution at the meeting. Persons submitting a written statement only just submit one (1) copy of the statement to the DACOWITS staff by the close of the meeting on December 6, 2002.

DATES: December 3, 2002, 8:30 a.m.-10 a.m., and 2 p.m.-5:05 p.m.; December 4, 2002, 8:30 a.m.-5 p.m.; December 5, 2002, 8:30 a.m.-4:35 p.m.; December 6, 2002, 8:30 a.m.-4:30 p.m.

ADDRESSES: Courtyard Marriott, 2899 Jefferson Davis Hwy, Arlington, VA 22202.

FOR FURTHER INFORMATION CONTACT: Lieutentant Commander Shannon Thaeler, USN, DACOWITS, OASD (Force Management Policy), 4000 Defense Pentagon, Room 3D769, Washington, DC 20301-4000. Telephone (703) 697-2122.

SUPPLEMENTARY INFORMATION: Meeting agenda:

Tuesday, December 3, 2002

Open to Public 8:30 a.m. to 10 a.m.

8:30 a.m. Welcome

Presentation of Pins and Appointment Certificates

9 a.m. DOD's Vision for the Committee

9:15 a.m. Welcome by DACOWITS Chair

9:30 a.m. Committee's Mission and Process

9:45 a.m. Break

Not Open to Public 10 a.m. to 2 p.m. (Administration and Lunch)

Open to Public 2 p.m. to 5 p.m.

2 p.m. Military Personnel Management

3:45 p.m. Break

4 p.m. Social Compact

5 p.m. End of Day Wrap-up

Wednesday, December 4, 2002

Open to Public All Day

8:30 a.m. Focus Group Training

12:00 p.m. Break for Lunch

1:15 p.m. Focus Group Training (cont)

4:50 p.m. End of Day Wrap-Up

Thursday, December 5, 2002

Open to Public All Day

8:30 a.m. Focus Group Training (cont)

11:30 a.m. Installation Letters

11:45 a.m. Break for Lunch

1:00 p.m. Military Department Panel

1:00 p.m. Introduction—DoD Transformation

1:20 p.m. Army

1:40 p.m. Navy

2:00 p.m. Air Force

2:20 p.m. Question & Answer Period

3:00 p.m. Break

3:15 p.m. Defense Manpower Data Center Brief

4:15 p.m. Open Public Forum

4:30 p.m. End of Day Wrap-Up

Friday, December 6, 2002

Open to Public All Day

8:30 a.m. Committee Organization

11;00 a.m. Question & Answer Period

11:30 a.m. Committee Organization

12:00 p.m. Break for Lunch

1:15 p.m. Committee Organization

4:00 p.m. Wrap-Up

Dated: November 18, 2002
Patricia L. Toppings,
Alternate OSD Federal Register Liaison Officer, Department of Defense.

[FR Doc. 02-30271 Filed 11-27-02; 8:45 am]

BILLING CODE 5001-08-M